DEPARTMENT OF HOMELAND SECURITY

Coast Guard

[Docket No. USCG-2013-0625]

Commercial Fishing Safety Advisory Committee; Meeting

AGENCY: Coast Guard, DHS.

ACTION: Notice of Federal Advisory Committee Meeting.

SUMMARY: The Commercial Fishing Safety Advisory Committee (CFSAC) will meet in Washington, DC to discuss various issues relating to safety in the commercial fishing industry. This meeting will be open to the public.

DATES: The Committee will meet on August 14 and 15, 2013, from 8:00 a.m. to 5 p.m., and on August 16, 2013, from 8:00 a.m. to 12:30 p.m. This meeting may close early if all business is finished. Written material and requests to make oral presentations should reach the Coast Guard on or before August 2, 2013.

ADDRESSES: The Committee will meet at the Coast Guard Headquarters Building (Room 4613), 2100 2nd Street SW., Washington, DC 20593. Attendees will be required to provide a picture identification card and pass through a magnetometer in order to gain admittance to the U.S. Coast Guard Headquarters Building. Visitors should allow for at least 30 minutes to be processed through security and awaiting an escort, as may be required, to the meeting room.

For information on facilities or services for individuals with disabilities or to request special assistance at the meeting, contact the person listed in the FOR FURTHER INFORMATION CONTACT section, as soon as possible.

To facilitate public participation, we are inviting public comment on the issues to be considered by the committee as listed in the “Agenda” section below. You may submit written comments no later than August 2, 2013, and they must be identified by docket number [USCG-2013-0625] using one of the following methods:

• Federal eRulemaking Portal: http://www.regulations.gov. Follow the instructions for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-225.

• Hand Delivery: Same as mail address above, between 9:00 a.m. and 5:00 p.m., Monday through Friday, except Federal Holidays. The telephone number is 202-366-9329.

Instructions: All submissions received must include the words “Department of Homeland Security” and docket number [USCG-2013-0625]. All submissions received will be posted without alteration at www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: Any background information or presentations available prior to the meeting will be published in the docket. For access to the docket to read background documents or submissions received by the CFSAC, go to http://www.regulations.gov., insert “USCG-2013-0625” in the “Keyword” box, and then click “Search”.

Public comments will be sought throughout the meeting by the Designated Federal Officer (DFO) as specific issues are discussed by the committee. Additionally, public presentation/comment periods will be offered throughout the meetings on August 14-15 2013, and specifically from 4 p.m. to 5 p.m. if needed, and on August 16 if needed from 11:00 a.m. to 12:00 p.m. Speakers are requested to limit their comments to 5 minutes. Please note that the public comment period will end following the last call for comments. Contact the individual listed below to register as a speaker.

FOR FURTHER INFORMATION CONTACT: Mr. Jack Kemerer, Alternate Designated Federal Officer (ADFO) of CFSAC, Commandant (CG-CVC-3), U.S. Coast Guard Headquarters, 2100 Second Street SW., Mail Stop 7581, Washington, DC 20593-7581; telephone 202-372-1249, fax 202-372-1917, email: jack.a.kemerer@uscg.mil. If you have any questions on viewing or submitting material to the docket, call Barbara Hairston, Program Manager, Docket Operations, telephone 202-366-9826.

SUPPLEMENTARY INFORMATION: Notice of this meeting is given under the Federal Advisory Committee Act, 5 U.S.C. App. (Pub. L. 92-463). The CFSAC is authorized by 46 U.S.C. 4508 and the Committee's purpose is to provide advice and recommendations to the U.S. Coast Guard and the Department of Homeland Security on matters relating to the safety of commercial fishing industry vessels.

Agenda

The CFSAC will meet to review, discuss and formulate recommendations on topics contained in the agenda:

Day 1 of the meeting will include administrative matters, reports, presentations, and subcommittee sessions as follows:

(1) Swearing-in of new members, election of chair and vice-chair, and completion of required forms by members.

(2) Status of Commercial Fishing Vessel Safety Rulemaking projects resulting from requirements set forth in the Coast Guard Authorization Act of 2010 and the Coast Guard and Maritime Transportation Act of 2012.

(3) Commercial Fishing Vessel Safety District Coordinators reports on activities and initiatives, such as the mandatory dockside safety examination bridging program.

(4) Industry Representatives updates on safety and survival equipment, and class rules for fishing vessels.

(5) Presentation on fatality rates by regions and fisheries, and update on safety and risk reduction related projects by the National Institute for Occupational Safety and Health.

(6) Presentation on safety standards by the National Oceanic and Atmospheric Administration, National Marine Fisheries Service.

(7) Subcommittee sessions on (a) training program requirements for individuals in charge of a vessel, and (b) standards for alternative safety compliance program(s) development.

(8) Public comment period.

Day 2 of the meeting will primarily be dedicated to continuing subcommittee sessions on training requirements and alternative safety programs, but will also include:

(1) Reports and recommendations from the subcommittees to the full committee for consideration.

(2) Other safety recommendations and safety program strategies from the committee.

(3) Public comment period.

Day 3 of the meeting will include:

(1) Reports and recommendations from the subcommittees to the full committee for approval.

(2) Other safety recommendations and safety program strategies from the committee.

(3) Future plans and long range goals for the committee.

(4) Public comment period.

Jonathan C. Burton,
Captain, U.S. Coast Guard, Director of Inspections and Compliance.

[FR Doc. 2013-17913 Filed 7-24-13; 8:45 am]

BILLING CODE 9110-04-P